ENVIRONMENTAL PROTECTION AGENCY

40 CFR Part 52

[VA107-5049b; FRL-6988-1]

Approval and Promulgation of Air Quality Implementation Plans; Virginia; Clarifying Revisions to 9 VAC 5 Chapter 40 Fuel Burning Equipment

AGENCY: Environmental Protection Agency (EPA).

ACTION: Proposed rule.

SUMMARY: EPA proposes to approve the State Implementation Plan (SIP) revision submitted by the Commonwealth of Virginia regarding existing stationary sources. The revisions concern provisions covering fuel burning equipment. The intent of the revisions is to clarify the applicability of the regulation and to clearly indicate that permits may be needed for the operation of a facility. New definitions to reflect the clarification along with some additional minor changes are included in the revisions. EPA is approving these revisions to the Fuel Burning Equipment Rule in accordance with the requirements of the Clean Air Act. In the Final Rules section of this Federal Register, EPA is approving the State's SIP submittal as a direct final rule without prior proposal because the Agency views this as a noncontroversial submittal and anticipates no adverse comments. A detailed rationale for the approval is set forth in the direct final rule. If no adverse comments are received in response to this action, no further activity is contemplated. If EPA receives adverse comments, the direct final rule will be withdrawn and all public comments received will be addressed in a subsequent final rule based on this proposed rule. EPA will not institute a second comment period. Any parties interested in commenting on this action should do so at this time.

DATES: Comments must be received in writing by July 2, 2001.

ADDRESSES: Written comments should be mailed to David L. Arnold, Chief, Air Quality Planning and Information Services Branch, Mailcode 3AP21, U.S. Environmental Protection Agency, Region III, 1650 Arch Street, Philadelphia, Pennsylvania 19103. Copies of the documents relevant to this action are available for public inspection during normal business hours at the Air Protection Division, U.S. Environmental Protection Agency, Region III, 1650 Arch Street, Philadelphia, Pennsylvania 19103; Virginia Department of Environmental Quality, 629 East Main Street, Richmond, Virginia 23219.

FOR FURTHER INFORMATION CONTACT: Ruth E. Knapp, (215) 814-2191, at the EPA Region III address above, or by e-mail at knapp.ruth@epa.gov.

SUPPLEMENTARY INFORMATION: For further information on this revision related to the types of equipment to which Virginia's Fuel Burning Equipment Rule applies, please see the information provided in the direct final action, with the same title, that is located in the “Rules and Regulations” section of this Federal Register publication.

Dated: May 17, 2001.
Thomas C. Voltaggio,
Acting Regional Administrator, Region III.

[FR Doc. 01-13501 Filed 5-30-01; 8:45 am]

BILLING CODE 6560-50-P